DEPARTMENT OF DEFENSE

Department of the Air Force

Record of Decision for the KC-46A Sixth Main Operating Base Beddown

AGENCY: Department of the Air Force, Department of Defense.

ACTION: Notice of availability of a record of decision.

SUMMARY: The United States Air Force signed the Record of Decision for the KC-46A Sixth Main Operating Base (MOB 6) on March 14, 2024.

ADDRESSES: For further information contact: Mr. Austin Narranjo, AFCEC/CIE, 2261 Hughes Ave, Ste 155, JBSA Lackland, TX 78236, ph: (210) 563-0190.

SUPPLEMENTARY INFORMATION: The Record of Decision reflects the Air Force decision to beddown 24 KC-46A Primary Aeropsace Vehichles Aurthorized (PAA) at MacDill Air Force Base in Tampa, Florida.

The decision was based on matters discussed in the KC-46A Sixth Main Operating Base Beddown Final Environmental Impact Statement, contributions from the public and regulatory agencies, and other relevant factors. The Final Environmental Impact Statement was made available to the public on November 24, 2023 through a Notice of Availability published in the Federal Register (Volume 88, Number 225, page 82350) with a 30-day wait period that ended on December 24, 2023.

Authority: This Notice of Availability is published pursuant to the regulations (40 CFR part 1506.6) implementing the provisions of the National Environmental Policy Act of 1969 (42 U.S.C.. 4321, et seq.) and the Air Force's Environmental Impact Analysis Process (32 CFR parts 989.21(b) and 989.24(b)(7)).

Tommy W. Lee,
Acting Air Force Federal Register Liaison Officer.

[FR Doc. 2024-06660 Filed 3-27-24; 8:45 am]

BILLING CODE 3911-44-P